DEPARTMENT OF TRANSPORTATION

Federal Motor Carrier Safety Administration

[Docket No. FMCSA-2008-0299]

Agency Information Collection Activities; Revision and Renewal of a Currently-Approved Information Collection: OMB Control No. 2126-0017 (Financial Responsibility, Motor Carriers, Freight Forwarders and Brokers)

AGENCY: Federal Motor Carrier Safety Administration (FMCSA), DOT.

ACTION: Notice and request for information.

SUMMARY: In accordance with the Paperwork Reduction Act of 1995, FMCSA announces its plan to submit the Information Collection Request (ICR) described below to the Office of Management and Budget (OMB) for its review and approval. The FMCSA requests OMB approval to revise and renew a currently-approved ICR entitled, “Financial Responsibility, Trucking and Freight Forwarding,” to reflect an increase in burden hours due to an increase in the estimated number of annual responses. In addition, the title of the ICR is being changed to “Financial Responsibility, Motor Carriers, Freight Forwarders and Brokers,” to better describe its purpose. This ICR sets forth the financial responsibility documentation requirements for motor carriers, freight forwarders and property brokers so they can maintain the minimum levels of financial responsibility required under the Federal Motor Carrier Safety Regulations (FMCSRs) to operate in interstate, foreign or intrastate commerce. FMCSA invites public comment on this ICR.

DATES: We must receive your comments on or before January 23, 2009.

ADDRESSES: You may submit comments bearing the Department of Transportation (DOT) Docket Management System (DMS) Docket Number FMCSA Docket Number FMCSA-2008-0299 using any of the following methods:

• Federal eRulemaking Portal: Go to http://www.regulations.gov. Follow the on-line instructions for submitting comments.

• Mail: Docket Management Facility; U.S. Department of Transportation, 1200 New Jersey Avenue, SE., West Building Group Floor, Room W12-140, Washington, DC 20590-0001.

• Hand Delivery: West Building Ground Floor, Room W12-140, 1200 New Jersey Avenue, SE., Washington DC, 20590-0001, between 9 a.m. and 5 p.m., e.t., Monday through Friday, except Federal Holidays.

• Fax: 1-202-493-2251.

Each submission must include the Agency name and the docket number for this Notice. Please note that DOT posts all comments received without change to http://www.regulations.gov, including any personal information included in a comment. Please see the Privacy Act heading below:

Docket: For access to the docket to read background documents or comments, go to http://www.regulations.gov at any time or Room W12-140 on the ground level of the West Building, 1200 New Jersey Avenue, SE., Washington, DC 20590-0001 between 9 a.m. and 5 p.m., Monday through Friday, except Federal holidays. The DMS is available 24 hours each day, 365 days each year. If you want acknowledgement that we received your comments, please include a self-addressed, stamped envelope or post card or print the acknowledgement page that appears after submitting on-line.

Privacy Act: Anyone may search the electronic form of all comments received into any of our dockets by the name of the individual submitting the comment (or of the person signing the comment, if submitted on behalf of an association, business, labor union, etc.). You may review the DOT's complete Privacy Act Statement in the Federal Register on April 11, 2000 (65 FR 19477-78). This information is also available at http://Docketinfo.dot.gov.

FOR FURTHER INFORMATION CONTACT: Ms. Dorothea Grymes, Transportation Specialist, Office of Enforcement and Compliance, Commercial Enforcement Division, Department of Transportation, Federal Motor Carrier Safety Administration, 6th Floor, West Building, 1200 New Jersey Ave., SE., Washington DC 20590-0001. Telephone Number: (202) 385-2405; E-mail Address: dorothea.grymes@dot.gov. Office hours are from 9 a.m. to 5 p.m., Monday through Friday, except Federal Holidays.

SUPPLEMENTARY INFORMATION:

Background

The Secretary of Transportation (Secretary) is authorized to register for hire motor carriers of regulated commodities under the provisions of 49 U.S.C. 13902, surface freight forwarders under the provisions of 49 U.S.C. 13903, and property brokers under the provisions of 49 U.S.C. 13904. These persons may conduct transportation services only if they are registered pursuant to 49 U.S.C. 13901. The Secretary has delegated authority pertaining to these registration requirements to the FMCSA. The registration remains valid only as long as these transportation entities maintain, on file with the FMCSA, evidence of the required levels of insurance coverage pursuant to 49 U.S.C. 13906. FMCSA regulations governing the financial responsibility requirements for these entities are found at 49 CFR part 387.

Forms for Endorsements, Certificates of Insurance and Others

Evidence of Bodily Injury and Property Damage (BI&PD) Liability Forms BMC-91 and 91X entitled, “Motor Carrier Automobile Bodily Injury and Property Damage Liability Certificate of Insurance,” and Form BMC-82 entitled, “Motor Carrier Bodily Injury and Property Damage Liability Surety Bond Under 49 U.S.C. § 13906,” provide evidence of the required coverage for bodily injury and property damage (BI&PD) liability.

Requirement to obtain Surety Bond or Trust Fund Agreement Form BMC-34 entitled, “Motor Carrier Cargo Liability Certificate of Insurance,” and Form BMC-83 entitled “Motor Carrier Cargo Liability Surety Bond Under 49 U.S.C. § 13906,” establish a carrier's compliance with the agency's cargo liability requirements. Form BMC-84 entitled “Property Broker's Surety Bond Under 49 U.S.C. § 13906,”and Form BMC-85 entitled, “Property Broker's Trust Fund Agreement Under 49 U.S.C. § 13906,” are filed by brokers to comply with the requirement that they must have a $10,000 surety bond or trust fund agreement in effect before FMCSA will issue a property broker license.

Cancellation of Prior Filings Form BMC-35 entitled, Notice of Cancellation Motor Carrier Insurance Under 49 U.S.C. 13906, Form BMC-36 entitled, “Notice of Cancellation Motor Carrier and Brokers Surety Bonds Under 49 U.S.C. § 13906,” and Form 85 entitled, “Property Broker's Trust Fund Agreement Under 49 U.S.C. 13906,” cancel prior filings.

Endorsement Form BMC 90 entitled, “Endorsement for Motor Carrier Policies of Insurance for Automobile Bodily Injury and Property Damage Liability Under Section 13906, Title 49 of the United States Code,” and Form BMC-32 entitled, “Endorsement for Motor Common Carrier Policies of Insurance for Cargo Liability Under 49 U.S.C. § 13906,” are executed by the insurance company, attached to BI&PD and cargo insurance policies, respectively, and forwarded to the motor carrier or freight forwarder.

Self Insurance motor carriers can also apply to the FMCSA to self-insure BI&PD and/or cargo liability in lieu of filing certificates of insurance with the FMCSA, as long as the carrier maintains a satisfactory safety rating. See 49 CFR 387.7(d)(3) and 387.309. The Form BMC-40 is the application used by carriers to apply for self-insurance authority.

Title: Financial Responsibility, Motor Carriers, Freight Forwarders and Brokers, formerly titled “Financial Responsibility, Trucking and Freight Forwarding.”

OMB Control Number: 2126-0017.

Type of Request: Revision of a currently-approved information collection.

Respondents: Motor carriers, freight forwarders and brokers.

Estimated Number of Respondents: 251,415.

Estimated Time per Response: The estimated average burden per response for the Form BMC-40 is 40 hours. The estimated average burden per response for all of the other remaining insurance forms (BMC-32, 34, 35, 36, 82, 83, 84, 85, 90, 91, and 91X) is 10 minutes per form.

Expiration Date: February 28, 2009.

Frequency of Response: Certificates of insurance, surety bonds, and trust fund agreements are required when the transportation entity first registers with the FMCSA and then when such coverages are changed or replaced. Notices of cancellation are required only when such certificates of insurance, surety bonds or trust fund agreements are canceled. The Form BMC-40 is generally filed only when a carrier seeks approval from FMCSA to self-insure its BI&PD and/or cargo liability.

Estimated Total Annual Burden: 66,960 hours [5 BMC-40 filings per year x 40 hours to complete + 400,560 filings per year for all of the other forms x 10 minutes/60 minutes to complete = 66,960].

Public Comments Invited: You are asked to comment on any aspect of this information collection, including: (1) Whether the proposed collection is necessary for the agency to perform its mission; (2) the accuracy of the estimated burden; (3) ways for the FMCSA to enhance the quality, usefulness, and clarity of the collected information; and (4) ways that the burden could be minimized without reducing the quality of the collected information. The agency will summarize or include your comments in the request for OMB's clearance of this information collection.

Issued on: November 14, 2008.
Terry Shelton,
Associate Administrator for Research and Information Technology.

[FR Doc. E8-27867 Filed 11-21-08; 8:45 am]

BILLING CODE 4910-EX-P